DEPARTMENT OF THE INTERIOR

Bureau of Land Management

[CA-0680-7123-AA-1220-24 1A]

Proposed New Information Collection

AGENCY: Bureau of Land Management, Interior.

ACTION: Notice and request for comments.

SUMMARY: In accordance with the Paperwork Reduction Act of 1995, the Bureau of Land Management (BLM) requests the Office of Management and Budget (OMB) to approve a new information collection on medical incidents. This information allows BLM to gather only the necessary data on a patient and the mechanism of injury Emergency Medical Response and Law Enforcement personnel need, while eliminating unnecessary sections of the current medical forms in use.

DATES: You must submit your comments to BLM at the address below on or before August 19, 2002. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-NEW” and your name and return address in your Internet message.

You may deliver comments to the Bureau of Land Management, Administrative Record, Room 401, 1620 L Street, NW., Washington, DC.

Comments will be available for public review at the L Street address during regular business hours (7:45 a.m. to 4:15 p.m.), Monday through Friday.

FOR FURTHER INFORMATION CONTACT: You may contact Barry Nelson, Chief Ranger, Bureau of Land Management, 2601 Barstow Road, Barstow, California 92311 or call (760) 252-6070 (Commercial or FTS). Persons who use a telecommunications device for the deaf (TDD) may call the Federal Information Relay Service (FIRS) on 1-800-877-8330, 24 hours a day, seven days a week, to contact Chief Ranger Nelson.

SUPPLEMENTARY INFORMATION: 5 CFR 1320.12(a), requires that we provide a 60-day notice in the Federal Register concerning a collection of information to solicit comments on:

(a) Whether the proposed collection of information is necessary for the proper functioning of the agency, including whether the information will have practical utility;

(b) the accuracy of our estimates of the proposed information collection burden, including the validity of the methodology and assumptions we use;

(c) ways to enhance the quality, utility, and clarity of the information collected; and

(d) ways to minimize the information collection burden on those who are to respond, including the use of appropriate automated, electronic, mechanical, or other technological collection techniques or other forms of information technology.

The BLM currently uses Medical Run Sheets provided by the Incident Command Emergency Medical Association (ICEMA). These run sheets were designed for use by Paramedics who:

(1) Are licensed to perform controlled medical acts under Standing Orders or Advanced Medical Directives based on the instructions of a delegating physician; and

(2) Must transport patients and administer any necessary treatment during transport.

BLM personnel operate only at the level of First Responders or Emergency Medical Technicians; the ICEMA run sheets provide areas that are not beneficial or useful to BLM. This results in sections of the run sheet being left blank and not utilized with information that BLM staff must include in incident reports or when gathering medical data.

The proposed new form will eliminate sections of the ICEMA run sheet that only paramedics and fire personnel use and replace the sections that will benefit both law enforcement and medical personnel, while still providing the information hospitals need. Since the BLM medical staff do not work “medicals” on a daily basis, the new run sheet will ensure that medical personnel and BLM Law Enforcement have the information they need. This will ensure that personnel follow proper procedures and document actions.

Based on BLM's experience administering the activities described above, we estimate we process 260 incident reports each year. We estimate the incident report completion time will vary from 5 to 30 minutes, with an average of 10 minutes. Most information for the incident report is gathered within the 10 minutes while other information (vitals) is completed periodically until higher level EMS personnel arrives. Annual responses will vary depending on the number of accidents. The estimated total annual burden is 130 hours.

Any member of the public may request and obtain, without charge, a copy of the BLM CA Form 9260-29 by contacting the person identified under FOR FURTHER INFORMATION CONTACT.

BLM will summarize all responses to this notice and include them in the request for Office of Management and Budget approval. All comments will become a matter of public record.

Dated: March 22, 2002.
Michael H. Schwartz,
Bureau of Land Management, Information Collection Clearance Officer.

[FR Doc. 02-15306 Filed 6-17-02; 8:45 am]

BILLING CODE 4310-84-M